DEPARTMENT OF HEALTH AND HUMAN SERVICES

Centers for Disease Control and Prevention

Disease, Disability, and Injury Prevention and Control Special Emphasis Panel: Economic Studies of Vaccines and Immunization Policies, Programs and Practices, Program Announcement Number 04092

In accordance with Section 10(a)(2) of the Federal Advisory Committee Act (Pub. L. 92-463), the Centers for Disease Control and Prevention (CDC) announces the following meeting:

Name: Disease, Disability, and Injury Prevention and Control Special Emphasis Panel: Economic Studies of Vaccines and Immunization Policies, Programs and Practices, Program Announcement Number 04092.

Times and Dates: 1 p.m.-1:20 p.m., June 28, 2004 (Open). 1:20 p.m.-5 p.m., June 28, 2004 (Closed).

Place: Teleconference number 1.888.469.3149, Pass Code 55672.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Program Announcement Number 04092.

FOR FURTHER INFORMATION CONTACT: Beth Gardner, National Immunization Program, CDC, 1600 Clifton Road, NE, MS-E05, Atlanta, GA 30333, Telephone 404.639.6101.

The Director, Management Analysis and Services Office, has been delegated the authority to sign Federal Register notices pertaining to announcements of meetings and other committee management activities, for both CDC and the Agency for Toxic Substances and Disease Registry.

Dated: May 26, 2004.
Alvin Hall,
Director, Management Analysis and Services Office, Centers for Disease Control and Prevention (CDC).

[FR Doc. 04-12566 Filed 6-2-04; 8:45 am]

BILLING CODE 4163-18-P